DEPARTMENT OF LABOR

Office of Federal Contract Compliance Programs

41 CFR Parts 60-1, 60-2, 60-4, and 60-50

Implementation of Executive Order 13672 Prohibiting Discrimination Based on Sexual Orientation and Gender Identity by Contractors and Subcontractors; Agency Information Collection Activities; Announcement of OMB Approval

AGENCY: Office of Federal Contract Compliance Programs, Labor.

ACTION: Announcement of Office of Management and Budget (OMB) approval of collection of information requirements.

SUMMARY: The Department of Labor, Office of Federal Contract Compliance Programs (OFCCP) is announcing that the collection of information requirements contained in the final rule titled “Implementation of Executive Order 13672 Prohibiting Discrimination Based on Sexual Orientation and Gender Identity by Contractors and Subcontractors” (41 CFR part 60) have been approved by OMB under the Paperwork Reduction Act of 1995. The OMB approval control number is 1250-0009.

DATES: The final rule published December 9, 2014 (79 FR 72985), including the information collection requirements, will take effect on April 8, 2015.

FOR FURTHER INFORMATION CONTACT: Debra A. Carr, Director, Division of Policy and Program Development, Office of Federal Contract Compliance Programs, U.S. Department of Labor, 200 Constitution Ave. NW., Room C-3325, Washington, DC 20210, (202) 693-0104. This is not a toll-free number.

SUPPLEMENTARY INFORMATION: OFCCP published a final rule entitled “Implementation of Executive Order 13672 Prohibiting Discrimination Based on Sexual Orientation and Gender Identity by Contractors and Subcontractors” on December 9, 2014. This final rule amends the regulations implementing Executive Order 11246 by replacing the words “sex, or national origin” with the words “sex, sexual orientation, gender identity, or national origin” as directed by Executive Order 13672, titled “Further Amendments to Executive Order 11478, Equal Employment Opportunity in the Federal Government and Executive Order 11246, Equal Employment Opportunity.” This final rule becomes effective on April 8, 2015.

OFCCP submitted the information collection request on December 8, 2014 to OMB for approval in accordance with the Paperwork Reduction Act of 1995. On March 17, 2015 OMB approved the collections of information contained in the final rule and assigned this collection OMB Control Number 1250-0009 title “Prohibiting Discrimination Based on Sexual Orientation and Gender Identity by Contractors and Subcontractors.” The approval for the collection expires on September 30, 2015. The approved collections of information are:

• Amending the Equal Opportunity Clause: Sections 60-1.4(a) and (b) and 60-4.3(a);

• Amending the Tag Line in Job Advertisements and Solicitations: Sections 60-1.4(a)(2), and 1.4(b)(2); and

• Reporting Denied Visas to Department of State and OFCCP: Section 60-1.10.

As required by the Paperwork Reduction Act of 1995, the Federal Register Notice for the final rule stated that compliance with the collection of information requirements was not required until these requirements are approved by OMB, and the Department of Labor publishes a notice in the Federal Register announcing that OMB approved and assigned a control number to the requirements. As provided in 5 CFR 1320.5(b) and 1320.6(a), an agency may not conduct or sponsor a collection of information unless the collection of information displays a currently valid OMB control number and the agency informs members of the public who must respond to the collection of information that they are not required to respond to the collection of information unless the agency displays a currently valid OMB control number.

Dated: March 25, 2015.
Debra A. Carr,
Director, Division of Policy and Program Development, Office of Federal Contract Compliance Programs.

[FR Doc. 2015-07216 Filed 3-30-15; 8:45 am]

BILLING CODE 4510-CM-P